POSTAL SERVICE

Disclosure of Information on U.S. Mail

ACTION: Notice.

SUMMARY: The Postal Service is publishing notice that it has amended its Administrative Support Manual to clarify the instances when it may collect an image of the U.S. Mail, in whole or parts, for operational or health and safety purposes.

DATES: The amendment to the Administrative Support Manual (ASM) is effective when published in the Postal Bulletin (issue 22073) on April 4, 2002.

ADDRESSES: Parties interested in reviewing these amendments may find them online at http://www.usps.com/cpim/ftp/bulletin/pb.htm.

FOR FURTHER INFORMATION CONTACT: Elizabeth P. Martin, Chief Counsel, Customer Protection and Privacy, 202-268-3022.

SUPPLEMENTARY INFORMATION:

Discussion of Amendments

The Postal Service is revising ASM section 274.5, Disclosure of Information Collected From Mail Sent or Received by Customers, to designate two additional circumstances in which the Postal Service may collect images of live mail for specified purposes. Specifically, we:

• Added section 274.5(f)(9) to allow for developing, testing, and improving recognition and processing capabilities without getting written approval from the Chief Postal Inspector. This change facilitates the use of test decks for purposes of testing and calibrating enhanced processing technology.

• Added section 274.5(i) to allow the Postal Service to collect images of mail for the purpose of ensuring the health and safety of its employees and the public.

• Clarified that any images collected for operational purposes by the Postal Service may not be used for criminal investigative purposes, unless law enforcement officials comply with the procedures in ASM 213 regarding mail covers.

• Made technical amendments to replace the words “photocopy” or “picture” with the word “image”, to encompass all the ways to create an image of a piece of mail.

• Created a new part 274.51, Disclosure of Information from Contents of Sealed Mail, to separate the limitations on uses for information obtained from the cover of mail from the limitations on the uses of information obtained from the contents of sealed mail. Sealed mail may be opened in mail recovery centers only for the purpose of obtaining an address to where the mail may be delivered. The new section 274.51 makes no changes to the limitations on other uses of that information.

Stanley F. Mires,
Chief Counsel, Legislative.

[FR Doc. 02-8361 Filed 4-5-02; 8:45 am]

BILLING CODE 7710-12-P